DEPARTMENT OF JUSTICE

Drug Enforcement Administration

[Docket No. DEA-274N]

Solicitation of Information on the Use of Phenethylamine-Related Compounds

AGENCY: Drug Enforcement Administration (DEA), Department of Justice.

ACTION: Notice, solicitation of information.

SUMMARY: The DEA is soliciting information on substances that are related in chemical structure to phenethylamine (see supplementary information). The Controlled Substances Act (CSA), Title 21 of the United States Code (U.S.C.) § 812(c) schedule I (Title 21 of the Code of Federal Regulations (CFR) § 1308.11(d)), lists certain phenethylamines as schedule I controlled substances. Some phenethylamines that are not controlled under the CSA produce central nervous system effects that are similar to phenethylamines that are controlled under the CSA. DEA is requesting information to help determine the impact on business if these substances were to be placed under control in the CSA.

DATES: Written comments must be postmarked, and electronic comments must be sent, on or before December 19, 2006.

ADDRESSES: To ensure proper handling of comments, please reference “Docket No. DEA-274N” on all written and electronic correspondence. Written comments being sent via regular mail should be sent to the Deputy Assistant Administrator, Office of Diversion Control, Drug Enforcement Administration, Washington, DC 20537, Attention: DEA Federal Register Representative/ODL. Written comments sent via express mail should be sent to DEA Headquarters, Attention: DEA Federal Register Representative/ODL, 2401 Jefferson-Davis Highway, Alexandria, VA 22301. Comments may be directly sent to DEA electronically by sending an electronic message to dea.diversion.policy@usdoj.gov. DEA will accept attachments to electronic comments in Microsoft Word, WordPerfect, Adobe PDF, or Excel file formats only. DEA will not accept any file format other than those specifically listed here.

FOR FURTHER INFORMATION CONTACT: Christine A. Sannerud, Ph.D., Chief, Drug and Chemical Evaluation Section, Office of Diversion Control, Drug Enforcement Administration, Washington, DC 20537; Telephone: (202) 307-7183.

SUPPLEMENTARY INFORMATION: Phenethylamine is a compound in which the chemical structure is a benzene ring substituted with a 2-aminoethyl chain. Although phenethylamine itself is not a controlled substance, its chemical structure constitutes the skeletal makeup of phenethylamines listed in schedule I of the CSA, which are classified as hallucinogenic substances. Phenethylamines are also found in schedule II and IV of the CSA.

Phenethylamine is sometimes substituted on the benzene ring or the 2-aminoethyl chain or both with various substituents. Title 21 CFR 1308.11(d) lists specific substituted phenethylamines in schedule I. Also included in schedule I are the salts, isomers, and salts of isomers of the listed phenethylamines. The term isomer, as used in this section, means the optical, geometric, and positional isomers.

Individuals have published detailed methods of synthesis for substituted phenethylamines and have reported pharmacological effects based on user experiences. Law enforcement personnel encounter such phenethylamines, but because they are substituted differently than those listed or described in the CSA, they are not subject to direct control in schedule I. However, some of these substances can be treated as schedule I controlled substance analogues if intended for human consumption (21 U.S.C. 802(32); 813).

DEA is soliciting information on (1) the commercial uses for phenethylamines, (2) activities involving research and development, (3) phenethylamines as intermediates or analytical standards, (4) import and domestic sources for phenethylamines, and (5) any planned or anticipated uses for phenethylamines. DEA invites interested persons to provide any information on the uses of phenethylamines in industry, academia, research and development, or other applications. Both quantitative and qualitative information are sought.

Although information is requested for all phenethylamine substances regardless of substitutions, DEA is particularly interested in phenethylamines that meet one or more of the following conditions: any compound structurally derived from phenethylamine, or from any N-alkylphenethylamine, any alpha-alkylphenethylamine, or any N-alkyl-alpha-alkylphenethylamine, by substitution on the ring to any extent with alkyl, cycloalkyl, cycloalkenyl, alkoxy, alkylthio, alkylhalide, alkylene-dioxy, acyloxy, or halide substituents, whether or not further substituted on the ring by one or more other univalent substituents. DEA is especially interested in learning of the uses of the following phenethylamines:

1,4-Dimethoxynaphthyl-2-ethylamine

1,4-Dimethoxynaphthyl-2-isopropylamine

2-(2,5-Dimethoxy-4-methylphenyl)-cyclopropylamine

2,3,4,5-Tetramethoxyamphetamine

2,3,4-Trimethoxyamphetamine

2,3,4-Trimethoxyphenethylamine

2,3,5-Trimethoxyamphetamine

2,3,6-Trimethoxyamphetamine

2,3-Dimethoxy-4,5-methylenedioxyamphetamine

2,4,5-Triethoxyamphetamine

2,4,5-Trimethoxyamphetamine

2,4,5-Trimethoxyphenethylamine

2,4,6-Trimethoxyamphetamine

2,4-Diethoxy-5-methoxyamphetamine

2,4-Dimethoxy-5-ethoxyamphetamine

2,4-Dimethoxyamphetamine

2,5,beta-Trimethoxy-4-methylphenethylamine

2,5-Bismethylthio-4-methylamphetamine

2,5-Diethoxy-4-methoxyamphetamine

2,5-Dimethoxy-3,4-methylenedioxyamphetamine

2,5-Dimethoxy-4,N-dimethylamphetamine

2,5-Dimethoxy-4-ethoxyamphetamine

2,5-Dimethoxy-4-propoxyamphetamine

2,5-Dimethoxy-alpha-ethyl-4-methylphenethylamine

2,5-Dimethoxy-beta-hydroxy-4-methylphenethylamine

2,5-Dimethoxy-N,N-dimethyl-4-iodoamphetamine

2,5-Dimethoxy-N-hydroxy-4-(n)-propylthiophenethylamine

2,5-Dimethoxy-N-hydroxy-4-(sec)-butylthiophenethylamine

2,5-Dimethoxy-N-hydroxy-4-ethylthiophenethylamine

2,5-Dimethoxyphenethylamine

2,N-Dimethyl-4,5-methylenedioxyamphetamine

2-Bromo-4,5-methylenedioxyamphetamine

2-Ethoxy-4,5-dimethoxyamphetamine

2-Methoxy-3,4-methylenedioxyamphetamine

2-Methoxy-4,5-diethoxyamphetamine

2-Methoxy-4,5-methylenedioxyamphetamine

2-Methoxy-4-methyl-5-methylsulfinylamphetamine

2-Methoxy-4-methyl-5-methylthioamphetamine

2-Methylthio-3,4-dimethoxyphenethylamine

2-Methylthio-3,4-methylenedioxyamphetamine

2-Methylthio-4,5-dimethoxyamphetamine

3,4,5,beta-Tetramethoxyphenethylamine

3,4,5-Triethoxyphenethylamine

3,4,5-Trimethoxyphenethylamine

3,4-Diethoxy-5-methoxyphenethylamine

3,4-Diethoxy-5-methylthiophenethylamine

3,4-Dimethoxy-5-ethoxyphenethylamine

3,4-Dimethoxy-5-propoxyphenethylamine

3,4-Dimethoxyamphetamine

3,4-Dimethoxy-beta-hydroxyphenethylamine

3,4-Dimethoxyphenethylamine

3,4-Dimethyl-2,5-dimethoxyamphetamine

3,4-Dimethyl-2,5-dimethoxyphenethylamine

3,4-Ethylenedioxy-5-methoxyamphetamine

3,4-Methylenedioxyphenethylamine

3,4-Norbornyl-2,5-dimethoxyamphetamine

3,4-Norbornyl-2,5-dimethoxyphenethylamine

3,4-Tetramethylene-2,5-dimethoxyamphetamine

3,4-Tetramethylene-2,5-dimethoxyphenethylamine

3,4-Trimethylene-2,5-dimethoxyamphetamine

3,4-Trimethylene-2,5-dimethoxyphenethylamine

3,5-Diethoxy-4-ethylthiophenethylamine

3,5-Diethoxy-4-methoxyphenethylamine

3,5-Diethoxy-4-methylthiophenethylamine

3,5-Dimethoxy-4-ethylthiophenethylamine

3,5-Dimethoxy-4-isopropoxyphenethylamine

3,5-Dimethoxy-4-methallyloxyphenethylamine

3,5-Dimethoxy-4-phenethyloxyphenethylamine

3,5-Dimethoxy-4-propoxyphenethylamine

3-Ethoxy-4-ethylthio-5-methoxyphenethylamine

3-Ethoxy-4-methoxy-5-methylthiophenethylamine

3-Ethoxy-5-ethylthio-4-methoxyphenethylamine

3-Ethoxy-5-methoxy-4-methylthiophenethylamine

3-Methoxy-4,5-methylenedioxyphenethylamine

3-Methoxy-4-ethoxyphenethylamine

3-Methylthio-2,4-dimethoxyphenethylamine

3-Methylthio-4,5-dimethoxyphenethylamine

4-(2-Fluoroethyl)-2,5-dimethoxyamphetamine

4-(2-Fluoroethylthio)-2,5-dimethoxyphenethylamine

4-(2-Methoxyethylthio)-2,5-dimethoxyphenethylamine

4-(sec)-Butylthio-2,5-dimethoxyphenethylamine

4-(tert)-Butylthio-2,5-dimethoxyphenethylamine

4,5-Diethoxy-3-ethylthiophenethylamine

4,5-Dimethoxy-3-ethylthiophenethylamine

4,5-Thiomethyleneoxy-2-methoxyamphetamine

4-Allyloxy-3,5-dimethoxyphenethylamine

4-Amyl-2,5-dimethoxyamphetamine

4-Benzyloxy-3,5-dimethoxyamphetamine

4-Bromo-2,5,beta-trimethoxyphenethylamine

4-Bromo-2,5-dimethoxy-N-methylamphetamine

4-Bromo-3,5-dimethoxyamphetamine

4-Butoxy-3,5-dimethoxyphenethylamine

4-Butyl-2,5-dimethoxyamphetamine

4-Chloro-2,5-dimethoxyamphetamine

4-Chloro-2,5-dimethoxyphenethylamine

4-Cyclopropylmethoxy-3,5-dimethoxyphenethylamine

4-Cyclopropylmethylthio-2,5-dimethoxyphenethylamine

4-Cyclopropylthio-2,5-dimethoxyphenethylamine

4-Ethoxy-3,5-dimethoxyamphetamine

4-Ethoxy-3,5-dimethoxyphenethylamine

4-Ethoxy-3-ethylthio-5-methoxyphenethylamine

4-Ethoxy-5-methoxy-3-methylthiophenethylamine

4-Ethyl-2,5-dimethoxyphenethylamine

4-Ethyl-2-methoxy-5-methylthioamphetamine

4-Ethyl-5-methoxy-2-methylthioamphetamine

4-Ethylthio-2,5-dimethoxyamphetamine

4-Ethylthio-2,5-dimethoxyphenethylamine

4-Fluoro-2,5-dimethoxyphenethylamine

4-Iodo-2,5-dimethoxyamphetamine

4-Iodo-2,5-dimethoxyphenethylamine

4-Isopropoxy-2,5-dimethoxyphenethylamine

4-Isopropylthio-2,5-dimethoxyamphetamine

4-Isopropylthio-2,5-dimethoxyphenethylamine

4-Isopropylthio-2,6-dimethoxyphenethylamine

4-Methoxy-2,3-methylenedioxyamphetamine

4-Methyl-2,5-dimethoxyphenethylamine

4-Methyl-2,6-dimethoxyamphetamine

4-Methyl-3,5-Dimethoxyphenethylamine

4-Methylseleno-2,5-dimethoxyphenethylamine

4-Methylthio-2,3-dimethoxyphenethylamine

4-Methylthio-2,5-dimethoxyamphetamine

4-Methylthio-2,5-dimethoxyphenethylamine

4-Methylthio-3,5-dimethoxyphenethylamine

4-Nitro-2,5-dimethoxyamphetamine

4-Nitro-2,5-dimethoxyphenethylamine

4-Phenylthio-2,5-dimethoxyamphetamine

4-Propyl-2,5-dimethoxyamphetamine

4-Propyl-2,5-dimethoxyphenethylamine

4-Propylthio-2,5-dimethoxyamphetamine

4-Propylthio-3,5-dimethoxyphenethylamine

4-Propynyloxy-3,5-dimethoxyphenethylamine

4-Thiobutoxy-3,5-dimethoxyphenethylamine

4-Trideuteromethyl-3,5-dimethoxyphenethylamine

5-Bromo-2,4-dimethoxyamphetamine

5-Ethoxy-2-methoxy-4-methylamphetamine

5-Methoxy-4-methyl-2-methylthioamphetamine

5-Methylthio-2,4-dimethoxyamphetamine

alpha,alpha,N-Trimethyl-3,4-methylenedioxyphenethylamine

alpha,alpha-Dimethyl-3,4-methylenedioxyphenethylamine

alpha-Ethyl-3,4,5-trimethoxyphenethylamine

alpha-Ethyl-3,4-methylenedioxyphenethylamine

Benzofuran-2,2-dimethyl-5-methoxy-6-(2-aminopropane)

Benzofuran-2-methyl-5-methoxy-6-(2-aminopropane)

beta,beta-Dideutero-3,4,5-trimethoxyphenethylamine

beta-Methoxy-3,4-methylenedioxyphenethylamine

N-(2-Hydroxyethyl)-3,4-methylenedioxyamphetamine

N-(2-Methoxyethyl)-3,4-methylenedioxyamphetamine

N,alpha-diethyl-3,4-methylenedioxyphenethylamine

N,N-Dimethyl-3,4-methylenedioxyamphetamine

N-Allyl-3,4-methylenedioxyamphetamine

N-Benzyl-3,4-methylenedioxyamphetamine

N-Butyl-3,4-methylenedioxyamphetamine

N-Cyclopropylmethyl-3,4-methylenedioxyamphetamine

N-Ethyl-alpha-propyl-3,4-methylenedioxyphenethylamine

N-Hydroxy-N-methyl-3,4-methylenedioxyamphetamine

N-Isopropyl-3,4-methylenedioxyamphetamine

N-Methoxy-3,4-methylenedioxyamphetamine

N-Methyl-2,5-dimethoxyamphetamine

N-Methyl-2-methoxy-4,5-methylenedioxyamphetamine

N-Methyl-3,4-ethylenedioxyamphetamine

N-Methyl-4-methoxyamphetamine

N-Methyl-alpha-ethyl-3,4-methylenedioxyphenethylamine

N-Methyl-alpha-propyl-3,4-methylenedioxyphenethylamine

N-Propargyl-3,4-methylenedioxyamphetamine

N-Propyl-3,4-methylenedioxyamphetamine

Such information may be submitted to the Drug Enforcement Administration using the information in the ADDRESSES section above. Such information is requested on or before December 19, 2006. Information designated as confidential or proprietary will be treated accordingly. Confidential business information is protected from disclosure under Exemption 4 of the Freedom of Information Act, 5 U.S.C. 552(b)(4)(FOIA) and the Department of Justice procedures set forth in 28 CFR 16.8.

Dated: October 11, 2006.
Joseph T. Rannazzisi,
Deputy Assistant Administrator, Office of Diversion Control.

[FR Doc. E6-17523 Filed 10-19-06; 8:45 am]

BILLING CODE 4410-09-P